DEPARTMENT OF JUSTICE

Antitrust Division

Notice Pursuant to the National Cooperative Research and Production Act of 1993—Gaming Standards Association

Notice is hereby given that, on May 7, 2004, pursuant to Section 6(a) of the National Cooperative Research and Production Act of 1993, 15 U.S.C. 4301 et seq. (“the Act”), the Gaming Standards Association (“GSA”) has filed written notifications simultaneously with the Attorney General and the Federal Trade Commission disclosing changes in its membership status. The notifications were filed for the purpose of extending the Act's provisions limiting the recovery of antitrust plaintiffs to actual damages under specified circumstances. Specifically, Intralot S.A., Athens, GREECE; Kare Technology, Moscow, RUSSIA; Nick Farley & Associates, Solon, OH; NRT Technology Corporation, Toronto, Ontario, CANADA; Revive Partners, LLC, Las Vegas, NV; and SGC-Link Corporation, Edmonton, Alberta, CANADA have been added as parties to this venture. Boyd Gaming Corporation, Las Vegas, NV; Cirsa Interactive Terrassa, SPAIN; Ensico d.o.o. Ljubljana, SLOVENIA; Octavian International LTD, Guildford, Surrey, UNITED KINGDOM; Sigma Game, Inc. Las Vegas, NV; and Soanar Croydon, Victoria, AUSTRALIA have been dropped as parties to this venture. Also, MIS-Group is now doing business as Atronic Systems, Park Place Entertainment is now doing business as Caesars Entertainment, and Unidesa is now doing business as Unidesa Gaming & Systems.

No other changes have been made in either the membership or planned activity of the group research project. Membership in this group research remains open, and GSA intends to file additional written notification disclosing all changes in membership.

On March 6, 2003, GSA filed its original notification pursuant to section 6(a) of the Act. The Department of Justice published a notice in the Federal Register pursuant to section 6(b) of the Act on April 1, 2003 (68 FR 15743).

The last notification was filed with the Department on January 27, 2004. A notice was published in the Federal Register pursuant to section 6(b) of the Act on March 4, 2004 (69 FR 10262).

Dorothy B. Fountain,
Deputy Director of Operations, Antitrust Division.

[FR Doc. 04-14543 Filed 6-24-04; 8:45 am]

BILLING CODE 4410-11-M